DEPARTMENT OF TRANSPORTATION

Federal Aviation Administration

14 CFR Part 39

[Docket No. FAA-2024-1696; Project Identifier MCAI-2023-01234-A]

RIN 2120-AA64

Airworthiness Directives; Diamond Aircraft Industries Inc. (Type Certificate Previously Held by Diamond Aircraft Industries GmbH) Airplanes

AGENCY: Federal Aviation Administration (FAA), DOT.

ACTION: Notice of proposed rulemaking (NPRM).

SUMMARY: The FAA proposes to supersede Airworthiness Directive (AD) 2009-10-04, which applies to certain Diamond Aircraft Industries GmbH (type certificate now held by Diamond Aircraft Industries Inc.) Model DA 40 and DA 40 F airplanes. AD 2009-10-04 requires repetitively inspecting the nose landing gear (NLG) leg for cracks and replacing the NLG leg if cracks are found. Since the FAA issued AD 2009-10-04, Transport Canada updated mandatory continuing airworthiness information (MCAI) to correct this unsafe condition on these products. This proposed AD results from changes made to the part replacement options and the repetitive inspections. This proposed AD would require doing repetitive detailed inspections of the NLG leg pivot axle for cracking and if cracking is found replacing that part with a serviceable part. This proposed AD would also require eventually replacing all NLG legs having certain part numbers with serviceable parts, if not already done, and prohibit installing affected parts. Replacing affected parts with serviceable parts would be terminating action for the repetitive inspections specified in this proposed AD. The FAA is proposing this AD to address the unsafe condition on these products.

DATES: The FAA must receive comments on this NPRM by August 19, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1696; or in person at Docket Operations between 9 a.m. and 5 p.m., Monday through Friday, except Federal holidays. The AD docket contains this NPRM, the MCAI, any comments received, and other information. The street address for Docket Operations is listed above.

Material Incorporated by Reference:

• For Diamond Aircraft Industries material, contact Diamond Aircraft Industries Inc., 1560 Crumlin Sideroad, London, ON, Canada, N5V 1S2; phone: (519) 457-4041; email: support-canada@diamondaircraft.com; website: diamondaircraft.com.

• You may view this material at the FAA, Airworthiness Products Section, Operational Safety Branch, 901 Locust, Kansas City, MO 64106. For information on the availability of this material at the FAA, call (817) 222-5110.

FOR FURTHER INFORMATION CONTACT: Gabriel Kim, Aviation Safety Engineer, FAA, 1600 Stewart Avenue, Suite 410, Westbury, NY 11590; phone: (516) 228-7300; email: 9-avs-nyaco-cos@faa.gov.

SUPPLEMENTARY INFORMATION:

Comments Invited

The FAA invites you to send any written relevant data, views, or arguments about this proposal. Send your comments to an address listed under ADDRESSES. Include “Docket No. FAA-2024-1696; Project Identifier MCAI-2023-01234-A” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gabriel Kim, Aviation Safety Engineer, FAA, 1600 Stewart Avenue, Suite 410, Westbury, NY 11590. Any commentary that the FAA receives which is not specifically designated as CBI will be placed in the public docket for this rulemaking.

Background

The FAA issued AD 2009-10-04, Amendment 39-15899 (74 FR 22435, May 13, 2009) (AD 2009-10-04), for certain Diamond Aircraft Industries GmbH (type certificate now held by Diamond Aircraft Industries Inc.) Model DA 40 and DA 40 F airplanes. AD 2009-10-04 was prompted by MCAI originated by the European Union Aviation Safety Agency (EASA), which is the Technical Agent for the Member States of the European Union. EASA issued AD 2009-0016, dated January 22, 2009 (EASA AD 2009-0016), to address fatigue cracking of the NLG leg part number (P/N) D41-3223-10-00 at the pivot axle.

AD 2009-10-04 superseded and maintains the requirements of AD 2007-17-06, Amendment 39-15164 (72 FR 46549, August 21, 2007), which required repetitively inspecting the NLG leg for cracks and replacing the NLG leg if cracks are found. The FAA issued AD 2009-10-04 to exclude from the applicability any airplanes that have the improved NLG leg installed.

Actions Since AD 2009-10-04 Was Issued

Effective November 15, 2017, the design and oversight responsibilities for the Model DA 40, DA 40 F, and DA 40 D airplanes were transferred from Diamond Aircraft Industries GmbH of Austria as the design approval holder, and EASA as the civil aviation authority, to Diamond Aircraft Industries Inc. (Diamond), of Canada as the new design approval holder, and Transport Canada as the civil aviation authority. After that transition, Transport Canada received several in-service reports of P/N D41-3223-10-00_1 cracking at the pivot axle and in some cases, fracture of the NLG leg. Investigation revealed that the failures were the result of fatigue cracking.

Since the FAA issued AD 2009-10-04, Transport Canada superseded EASA AD 2009-0016 and issued Transport Canada AD CF-2023-50, dated July 10, 2023 (Transport Canada AD CF-2023-50), to address failure of the NLG leg at the pivot axle by requiring initial and repetitive detailed inspections of NLG leg P/N D41-3223-10-00 and P/N D41-3223-10-00_1 to detect cracking, replacing a NLG leg, as required, with a serviceable part, and prohibiting the installation of NLG leg P/N D41-3223-10-00 or P/N D41-3223-10-00_1 as a replacement part.

Transport Canada AD CF-2023-20 differed from the Diamond material because Transport Canada AD CF-2023-20 required a detailed inspection of the pivot axle of the NLG leg P/N D41-3223-10-00 and P/N D41-3223-10-00_1 using a bright light and 10X magnifying glass instead of Type II visible dye for the inspection of the pivot axle. After Transport Canada AD CF-2023-50 was issued, the repetitive inspection interval was increased from 100 hours air time to 110 hours air time to align with the scheduled 100-hour inspection in chapter 5 of the DA 40 series Airplane Maintenance Manual. To require the change to Transport Canada AD CF-2023-50, Transport Canada issued AD CF-2023-50R1, dated November 29, 2023 (also referred to as the MCAI). The MCAI was published to address the time interval change of the repetitive inspection from 100-hour intervals to 110-hour intervals.

You may examine the MCAI in the AD docket at regulations.gov under Docket No. FAA-2024-1696.

Related Material Under 1 CFR Part 51

The FAA reviewed Diamond Mandatory Service Bulletin MSB 40-091 Rev. 0, dated January 18, 2021, published with Diamond Aircraft Industries Work Instruction WI-MSB 40-091 Rev. 0, dated January 18, 2021 (issued as one document). This material specifies procedures for doing repetitive dye penetrant inspections of the NLG leg pivot axle for cracking and replacing the NLG for Model DA 40 airplanes.

The FAA also reviewed Diamond Mandatory Service Bulletin MSB F4-038 Rev. 0, dated January 18, 2021, published with Diamond Aircraft Industries Work Instruction WI-MSB F4-038 Rev. 0, dated January 18, 2021 (issued as one document). This material specifies procedures for doing repetitive dye penetrant detailed inspections of the NLG leg pivot axle for cracking and replacing the NLG for Model DA 40 F airplanes.

This material is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would retain none of the requirements of AD 2009-10-04. This proposed AD would require doing repetitive detailed inspections of the NLG leg pivot axle for cracking and if cracking is found replacing that part with a serviceable part. This proposed AD would require eventually replacing all NLG legs having certain part numbers with serviceable parts, if not already done, and prohibiting installing affected parts. Replacing affected parts with serviceable parts would be terminating action for the repetitive inspections that would be required by this proposed AD.

Differences Between This Proposed AD, the MCAI, and the Material

The MCAI applies to Model DA 40 D airplanes, however, this proposed AD would not because that model does not have an FAA type certificate.

Although the Diamond material specifies to do dye penetrant inspections, the MCAI requires, and this proposed AD would require, using a bright light (minimum of 100 foot-candles) and 10X magnifying glass instead of dye penetrant.

Costs of Compliance

The FAA estimates that this AD, if adopted as proposed, would affect 693 airplanes of U.S. registry.

The FAA estimates the following costs to comply with this proposed AD:

Estimated Costs
Action | Labor cost | Parts cost | Cost per airplane | Cost on U.S. operators
Inspect NLG leg pivot axle | 1 work-hour × $85 per hour = $85 per inspection cycle | $50 per inspection cycle | $135 per inspection cycle | Up to $93,555 per inspection cycle.
Replace NLG leg | 2 work-hours × $85 per hour = $170 | $3,900 | $4,070 | Up to $2,820,510.

The costs of the proposed inspection and replacement of the NLG leg are based on all airplanes having an affected NLG installed. The FAA has no way of determining the number of airplanes that have the affected NLG installed, and those that do not have one installed would only be affected by the installation prohibition.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2009-10-04, Amendment 39-15899 (74 FR 22435, May 13, 2009); and

b. Adding the following new airworthiness directive:

Diamond Aircraft Industries Inc. (Type Certificate Previously Held by Diamond Aircraft Industries GmbH): Docket No. FAA-2024-1696; Project Identifier MCAI-2023-01234-A.

(a) Comments Due Date

The FAA must receive comments on this airworthiness directive (AD) by August 19, 2024.

(b) Affected ADs

This AD replaces AD 2009-10-04, Amendment 39-15899 (74 FR 22435, May 13, 2009) (AD 2009-10-04).

(c) Applicability

This AD applies to Diamond Aircraft Industries Inc. (type certificate previously held by Diamond Aircraft Industries GmbH) Model DA 40 and DA 40F airplanes, all serial numbers, certificated in any category.

(d) Subject

Joint Aircraft System Component (JASC) Code 3220, Nose/Tail Landing Gear.

(e) Unsafe Condition

This AD was prompted by failure of a NLG in the area of the pivot axle. The unsafe condition, if not addressed, could lead to damage to the airplane and injury to occupants.

(f) Compliance

Comply with this AD within the compliance times specified, unless already done.

(g) Definitions

For the purposes of this AD the definitions in paragraphs (g)(1) through (3) of this AD apply:

(1) An “affected part” is an NLG leg having either P/N D41-3223-10-00 or P/N D41-3223-10-00_1.

(2) A “serviceable part” is an NLG leg that is not an affected part. NLG legs having P/N D41-3223-10-00_2 or P/N D41-3223-10-00_3 are considered serviceable parts.

(3) The “applicable mandatory service bulletin (MSB) for your airplane” is:

(i) For Model DA 40 airplanes: Diamond Aircraft Industries Mandatory Service Bulletin MSB 40-091 Rev. 0, dated January 18, 2021, published with Diamond Aircraft Industries Work Instruction WI-MSB 40-091 Rev. 0, dated January 18, 2021 (issued as one document).

(ii) For Model DA 40 F airplanes: Diamond Aircraft Industries Mandatory Service Bulletin MSB F4-038 Rev. 0, dated January 18, 2021, published with Diamond Aircraft Industries Work Instruction WI-MSB F4-038 Rev. 0, dated January 18, 2021 (issued as one document).

(h) Required Actions

For all airplanes with an affected part installed, do the applicable actions specified in paragraphs (h)(1) and (2) of this AD.

(1) Within 25 hours time-in-service (TIS) or 30 days after the effective date of this AD, whichever occurs first, and thereafter at intervals not to exceed 110 hours TIS, perform the actions required by paragraphs (h)(1)(i) through (v) of this AD:

(i) Prepare the airplane for inspection of the pivot axle of the affected part in accordance with Section III, Paragraphs 1 through 4, of the Work Instruction of the applicable MSB for your airplane.

(ii) Clean the pivot axle of the affected part ensuring that any visible dye inspection residue is removed.

Note 1 to paragraph (h)(1)(ii): Paragraph 5-63, Cleaners and Applicators, of Chapter 5, Nondestructive Inspection (NDI), Section 5, Penetrant Inspection, of FAA Advisory Circular 43.13-1B, “Acceptable Methods, Techniques, and Practices—Aircraft Inspection and Repair,” Change 1, dated September 8, 1998, provides guidance regarding an approved cleaning method.

(iii) Perform a detailed inspection of the pivot axle of the affected part using a bright light (minimum of 100 foot-candles) and 10X magnifying glass to detect cracking, paying special attention to the radius at the top of the pivot axle as shown in Figure 1 of the Work Instruction of the applicable MSB for your airplane, except where Figure 1 refers to a “dye penetrant inspection” this AD does not require that type of inspection.

(iv) If any cracking is found during any inspection required by paragraph (h)(1)(iii) of this AD, before further flight, replace the affected part with a serviceable part, and reinstall the nose wheel fork in accordance with Section III, Paragraphs 8 through 12 of the Work Instruction of the applicable MSB for your airplane.

(v) If no cracking is found during any inspection required by paragraph (h)(1)(iii) of this AD and the compliance time specified in paragraph (h)(2) of this AD has not been exceeded, the affected part can remain installed until the compliance time specified in paragraph (h)(2) of this AD is reached. Reinstall the nose wheel fork in accordance with Section III, Paragraphs 8 through 12, of the Work Instruction of the applicable MSB for your airplane.

(2) Within 2,500 hours TIS or 24 months after the effective date of this AD, whichever occurs first, replace an affected part with a serviceable part. This part replacement is terminating action for the repetitive inspections required by paragraph (h)(1) of this AD.

(i) Parts Installation Prohibition

As of the effective date of this AD, do not install an affected part on any airplane.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (k)(1) of this AD or email to: 9-AVS-AIR-730-AMOC@faa.gov. If mailing information, also submit information by email. Before using any approved AMOC, notify your appropriate principal inspector, or lacking a principal inspector, the manager of the local Flight Standards District Office/certificate holding district office.

(k) Additional Information

(1) For more information about this AD, contact Gabriel Kim, Aviation Safety Engineer, FAA, 1600 Stewart Avenue, Suite 410, Westbury, NY 11590; phone: (516) 228-7300; email: 9-avs-nyaco-cos@faa.gov.

(2) FAA Advisory Circular 43.13-1B, “Acceptable Methods, Techniques, and Practices—Aircraft Inspection and Repair,” Change 1, dated September 8, 1998, may be found at drs.faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Diamond Aircraft Industries Mandatory Service Bulletin MSB 40-091 Rev. 0, dated January 18, 2021, published with Diamond Aircraft Industries Work Instruction WI-MSB 40-091 Rev. 0, dated January 18, 2021 (issued as one document).

(ii) Diamond Aircraft Industries Mandatory Service Bulletin MSB F4-038 Rev.0, dated January 18, 2021, published with Diamond Aircraft Industries Work Instruction WI-MSB F4-038 Rev. 0, dated January 18, 2021 (issued as one document).

(3) For Diamond Aircraft Industries material contact Diamond Aircraft Industries Inc., 1560 Crumlin Sideroad, London, ON, Canada, N5V 1S2; phone: (519) 457-4041; email: support-canada@diamondaircraft.com; website: diamondaircraft.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on June 21, 2024.
Victor Wicklund,
Deputy Director, Compliance & Airworthiness Division, Aircraft Certification Service.

[FR Doc. 2024-14140 Filed 7-3-24; 8:45 am]

BILLING CODE 4910-13-P